Title 3—

The President

Proclamation 8028 of June 5, 2006

Caribbean-American Heritage Month, 2006

By the President of the United States of America

A Proclamation

During Caribbean-American Heritage Month, we celebrate the great contributions of Caribbean Americans to the fabric of our Nation, and we pay tribute to the common culture and bonds of friendship that unite the United States and the Caribbean countries.

Our Nation has thrived as a country of immigrants, and we are more vibrant and hopeful because of the talent, faith, and values of Caribbean Americans. For centuries, Caribbean Americans have enriched our society and added to the strength of America. They have been leaders in government, sports, entertainment, the arts, and many other fields.

During the month of June, we also honor the friendship between the United States and the Caribbean countries. We are united by our common values and shared history, and I join all Americans in celebrating the rich Caribbean heritage and the many ways in which Caribbean Americans have helped shape this Nation.

NOW, THEREFORE, I, GEORGE W. BUSH, President of the United States of America, by virtue of the authority vested in me by the Constitution and laws of the United States, do hereby proclaim June 2006 as Caribbean-American Heritage Month. I encourage all Americans to learn more about the history of Caribbean Americans and their contributions to our Nation.

IN WITNESS WHEREOF, I have hereunto set my hand this fifth day of June, in the year of our Lord two thousand six, and of the Independence of the United States of America the two hundred and thirtieth.

B

[FR Doc. 06-5278

Filed 6-7-06; 9:20 am]

Billing code 3195-01-P